DEPARTMENT OF HOMELAND SECURITY

8 CFR Part 245

Adjustment of Status to That of Person Admitted for Permanent Residence

CFR Correction

In Title 8 of the Code of Federal Regulations, revised as of January 1, 2013, on page 568, in § 245.15, the heading for paragraph (g) is reinstated after paragraph (f)(2) and before paragraph (g)(1) to read as follows:

§ 245.15 Adjustment of status of certain Haitian nationals under the Haitian Refugee Immigrant Fairness Act of 1998 (HRIFA).

* * * * *

(g) Jurisdiction for filing of applications— * * *

* * * * *

[FR Doc. 2013-17387 Filed 7-17-13; 8:45 am]

BILLING CODE 1505-01-D